DEPARTMENT OF HEALTH AND HUMAN SERVICES

Centers for Disease Control and Prevention

[Request for Application 05017]

Intervention and Evaluation Trials To Prevent Intimate Partner Violence; Notice of Availability of Funds-Amendment

A notice announcing the availability of fiscal year (FY) 2005 funds for a research cooperative agreement program to conduct efficacy and effectiveness trials of intervention strategies to prevent intimate partner violence and/or its negative consequences, particularly studies of strategies that have not been well studied, for at-risk or underserved populations was published in the Federal Register on October 27, 2004, Vol. 69, No. 207, pages 62694-62701. The notice is amended as follows: On page 62696, Column 3, Line 2, delete $1,800,000 and replace with the new amount of $2,250,000.

Dated: November 3, 2004.
William Nichols,
Acting Director, Procurement and Grants Office, Centers for Disease Control and Prevention.

[FR Doc. 04-25027 Filed 11-9-04; 8:45 am]

BILLING CODE 4163-18-P